DEPARTMENT OF JUSTICE

National Institute of Corrections

Solicitation for a Cooperative Agreement—Evidence-Based Decision Making in State and Local Criminal Justice Systems: Planning and Development for Implementation

AGENCY: National Institute of Corrections, U.S. Department of Justice.

ACTION: Solicitation for a Cooperative Agreement.

SUMMARY: The National Institute of Corrections (NIC) is soliciting proposals from organizations, groups, or individuals to enter into a cooperative agreement for a 15-month period to begin no later than August 15, 2013. Work under this cooperative agreement will be an extension of the NIC's Evidence-Based Decision Making (EBDM) in Local Criminal Justice Systems initiative. It will require the coordination of jurisdictions receiving technical assistance under EBDM and review of work produced under other cooperative agreements that resulted in deliverables under EBDM. Work under this cooperative agreement will involve all activities necessary to plan for the successful implementation of EBDM in a statewide structure.

Specifically, the awardee will plan a comprehensive structure for implementation, including development of a technical assistance (TA) plan and the tools required to build capacity to implement EBDM within local jurisdictions and state-level criminal justice planning committees. The awardee will also revise “A Framework for Evidence-Based Decision Making in Local Criminal Justice Systems” to include needed content changes and additions to support statewide implementation; develop activities and tools needed to select a state that, through an identified process, is determined to have the greatest potential for successful planning and implementation of EBDM at the statewide level; provide TA to current EBDM sites and their states' criminal justice coordinating counsels and executive administration in preparation for statewide planning for EBDM implementation. This project will be a collaborative venture with the NIC Community Services Division.

NIC Opportunity Number: 13CS14. This number should appear in the reference line in your cover letter, on Standard Form 424 in section 11 with the title of your proposal, and in the right justified header of your proposal.

Number of Awards and Funds Available: Under this solicitation, one award will be made. The total amount of funds available under this solicitation is $480,000.00. Funds awarded under this solicitation may be used only for activities directly related to the project as described herein unless otherwise amended in writing by NIC.

Applications: All applicants must be submitted electronically via http://www.grants.gov. Hand delivered, mailed, faxed, or emailed applications will not be accepted.

DATES: Application must be submitted before midnight on Monday, August 5, 2013.

Authority: Public Law 93-415.

Eligibility of Applicants: An eligible applicant is any public or private agency, educational institution, organization, individual or team with expertise in the described areas.

SUPPLEMENTARY INFORMATION: Background: The purpose of the EBDM Initiative is to equip criminal justice policymakers with the information, processes, and tools that result in measurable reductions in pretrial misconduct and post-conviction reoffending. The initiative to date has built the capacity within seven local criminal justice systems to (1) improve the quality of information used to make individual case decisions in local systems and (2) engage these systems as policymaking bodies to improve the effectiveness of their decisions collectively at identified decision points. Local officials involved in this initiative include judges, prosecutors, public defenders, police, sheriff, human service providers, county executives, probation, and pretrial services directors.

A copy of “A Framework for Evidence-Based Decision Making in Local Criminal Justice Systems” is available at http://nicic.gov/Library/024372. The “Roadmap to Phase II” outlines the primary objectives of TA targeted at each of the seven local systems. A copy of the roadmap is available at http://static.nicic.gov/Public/roadmap phase ii final 2.docx.

The work completed to date on the EBDM initiative, including the Framework document, tools, and TA, have not addressed criminal justice decisions beyond an offender's placement in prison.

The intent of this proposal is to perform the activities required to expand the decision making points of the current EBDM Framework to include parole review, reentry (including institution and community planning), parole release and setting of conditions of parole supervision, responses to parole violations of conditions of community supervision, and revocation and termination of parole. It will expand collaborative partnerships to include the executive decision makers from state criminal justice agencies and build their capacity to (1) improve the quality of information used to make individual case decisions in state systems, (2) engage agencies as policymaking bodies to improve the effectiveness of their decisions collectively at identified decision points, and (3) improve the effectiveness of state policy and legislative mandates to support local jurisdictions' criminal justice system goals. It will link and coordinate state and local collaborative bodies to (1) improve the quality of information used to make individual case decisions managed at both the state and local levels and (2) engage these state and local agencies as policymaking bodies to improve the effectiveness of their decisions collectively at identified decision points. State officials will include chief judge, attorney general, chief public defender, department of corrections director, parole release and supervision authority, state police, director of health and human services, victim's rights, and the governor's office.

Included within this proposal is the provision of TA for current EBDM sites to help them prepare for statewide implementation, as well as the development of a protocol to establish an effective process for state site selection.

Scope of Work: The goal of this cooperative agreement is to develop the tools and protocols needed to select and build the capacity to implement EBDM within a statewide structure. This is will be accomplished through the following primary tasks: (1) Develop the “The Framework for Evidence-Based Decision Making in Local and State Criminal Justice Systems.” This document will be a revision and update of “Framework for Evidence-Based Decision Making in Local Criminal Justice Systems.” The updated document will include all of the relevant findings and information needed to guide decision points beyond prison placement. The updates and revision must be consistent with the current principles of EBDM. (2) Develop tools and protocols to build the capacity of state-level systems to make evidence-based decisions modeled after the tools and protocols developed and tested in “The Roadmap to Phase II.” The revisions and updates will include any knowledge, skill building, and information that would be specific to state-level executives and collaborative bodies. (3) Develop a protocol to link and coordinate local collaborative bodies to their state collaborative body. This link and coordination is intended to improve the quality of information and the effectiveness of the decisions of state and local bodies in reaching their harm reduction goals. This link has not been developed or tested in previous EBDM work and will require new development. (4) Develop all the tools and processes needed to select a state that has the greatest potential of completing the planning and implementation phases of EBDM. Learn more about the EBDM phases at http://www.nicic.gov/ebdm. The same selection process should be used for the local jurisdiction selection within this award and it should be modified for selection of the state that will receive future NIC technical assistance as part of this initiative. (5) Deliver TA to current states participating in the EBDM initiative (Colorado, Indiana, Oregon, Minnesota, Virginia, Wisconsin) to prepare them for the state selection process if they choose to participate. Thirty percent of the total budget of this cooperative agreement will be devoted to this effort. The TA should be both prescriptive and individual to the specific developmental needs of each state. (6) Propose a technical assistance plan that develops the prerequisite skills and knowledge that each state should possess as it begins the selection process and state-level collaboration. Proposals should also mention an applicant's ability to provide specialized ad-hoc technical assistance specific to the needs of the individual states. (7) Use local and state selection criteria to make the final selection of the state, including up to four of its local jurisdictions, to serve as NIC's pilot sites during the planning and implementation phases.

The order in which these tasks are to be completed will be determined at the initial planning meeting.

DELIVERABLES: (1) A manuscript of “A Framework for Evidence-Based Decision Making in Local and State Criminal Justice Systems,” (2) Tools and protocols needed to build state and local criminal justice system capacity to make evidence-based decisions, (3) Tools and protocols needed to link and coordinate state and local collaborative bodies, (4) Tools and processes to select the EBDM pilot state, including up to four of its local jurisdictions that will link to the state-level collaborative body, (5) Working documents of all the tools, protocols, and processes that are developed under this cooperative agreement. The documents must be in a format accessible to NIC and ready for use in selected sites. (6) EBDM state selection, including the local jurisdictions that will serve as NIC's pilot sites, (7) TA to the current EBDM states (6 eligible states) to prepare them for EBDM state selection, (8) Planning meetings and updates with the assigned NIC correctional program specialist throughout the award period, including at a minimum, (a) an in-person planning meeting with NIC staff to be held within 2 weeks of the award and (b) meeting routinely with NIC staff to discuss the progress of the project deliverables. Meetings will be held no less than quarterly and may be conducted in person, by phone, or online as agreed upon by both the NIC staff and awardee, (9) All documentation submitted.

FOR FURTHER INFORMATION CONTACT: All technical or programmatic questions concerning this announcement should be directed to Lori Eville, Correctional Program Specialist, National Institute of Corrections who may be reached by email at leville@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” 13CS14 and title in this announcement, “Evidence-Based Decision Making in State and Local Criminal Justice Systems: Planning and Development for Implementation.” The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Failure to supply all required forms with the application package may result in disqualification of the application from consideration.

Note: NIC will NOT award a cooperative agreement to an applicant who does not have a Dun and Bradstreet Database Universal Number (DUNS) and is not registered in the Central Contractor Registry (CCR). A DUNS number can be received at no cost by calling the dedicated toll-free DUNS number request line at 1-800-333-0505 (if you are a sole proprietor, you would dial 1-866-705-5711 and select option 1).

Registration in the CCR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.602, Research and Policy Formulation. You are not subject to Executive Order 12372 and should check box b under section 16.

Robert M. Brown, Jr.,
Acting Director, National Institute of Corrections.

[FR Doc. 2013-17500 Filed 7-19-13; 8:45 am]

BILLING CODE 4410-36-P